DEPARTMENT OF LABOR

Employment and Training Administration

[TA-W-55,380]

Pinnacle Foods Corporation, Swanson Division, Omaha, NE; Notice of Termination of Investigation

Pursuant to section 221 of the Trade Act of 1974, as amended, an investigation was initiated on August 4, 2004 in response to a petition filed by a company official on behalf of workers at Pinnacle Foods Corporation, Swanson Division, Omaha, Nebraska.

The petitioner has requested that the petition be withdrawn. Consequently, the investigation has been terminated.

Signed in Washington, DC, this 12th day of August, 2004.
Linda G. Poole,
Certifying Officer, Division of Trade Adjustment Assistance.

[FR Doc. 04-19319 Filed 8-23-04; 8:45 am]

BILLING CODE 4510-30-P